DEPARTMENT OF DEFENSE

Department of the Navy

Notice of Intent To Prepare a Supplement to the 2008 Environmental Impact Statement for Introduction of the P-8A Multi-Mission Maritime Aircraft Into the U.S. Navy Fleet

AGENCY: Department of the Navy, DoD.

ACTION: Notice.

SUMMARY: Pursuant to Section 102(2)(c) of the National Environmental Policy Act of 1969 and regulations implemented by the Council on Environmental Quality (40 Code of Federal Regulations parts 1500-1508), the Department of the Navy (DoN) announces its intent to prepare a Supplement to the Environmental Impact Statement (EIS) for the Introduction of the P-8A Multi-Mission Maritime Aircraft (MMA) to the U.S. Navy Fleet. The Supplemental EIS will address the potential environmental impacts of new homebasing alternatives and updated P-8A MMA program information.

SUPPLEMENTARY INFORMATION: In September 2008, the DoN completed the Final EIS for the Introduction of the P-8A MMA into the U.S. Navy Fleet, which evaluated the environmental impacts of homebasing 12 P-8A MMA fleet squadrons (72 aircraft) and one Fleet Replacement Squadron (FRS) (12 aircraft) at established maritime patrol homebases. The Final EIS analyzed transitioning personnel, new construction or renovation of structures, and all airfield operations necessary to accommodate the P-8A MMA as the DoN phases the P-3C Orion out of service.

The Assistant Secretary of the Navy for Installations and Environment reviewed the Final EIS, and after carefully weighing the operational, social, and environmental impacts of the proposed action, determined the DoN would homebase five fleet squadrons and the FRS at Naval Air Station (NAS) Jacksonville, four fleet squadrons at NAS Whidbey Island, and three fleet squadrons at Marine Corps Base (MCB) Hawaii Kaneohe Bay, with periodic squadron detachments at NAS North Island (Alternative 5). A notice of the Record of Decision (ROD) was published in the Federal Register on January 2, 2009 (74 FR 100). At the time, Alternative 5 was considered to best meet mission requirements because it optimized operational efficiencies related to training and contractor logistics support functions at the three established maritime patrol homebase locations.

To meet the DoN's current and future requirements and maximize the efficiency of support facilities, simulation training equipment, and on-site support personnel, the DoN proposes to analyze additional alternatives for P-8A aircraft homebasing. The DoN has determined that a dual-siting alternative, rather than homebasing the aircraft at three locations, now best meets current requirements. The two potential homebase locations for the P-8A MMA are NAS Jacksonville, located in Duval County, Florida, and NAS Whidbey Island, located in Island County, Washington.

Homebasing the P-8A MMA at two locations would result in differences in numbers of aircraft and personnel, as well as associated facility requirements at several Naval installations when compared to the 2008 ROD. For NAS Jacksonville, this would mean an increase in P-8A MMA aircraft and personnel permanently assigned, but would require no new facilities. For NAS Whidbey Island, this would mean an increase in P-8A MMA aircraft and personnel permanent assigned, as well as an expanded facility footprint. For MCB Hawaii Kaneohe Bay, the proposed dual-siting would result in the new assignment of two rotating P-8A MMA detachments, the elimination of permanently assigned P-8A MMA aircraft and personnel, and a reduced facility footprint. For NAS North Island, there would be no change in P-8A MMA aircraft, personnel or facility requirements from the 2008 ROD.

The environmental analysis in the Supplemental EIS will focus on several aspects of the proposed action: facility and infrastructure renovation and construction, personnel changes, and aircraft operations at the homebase airfields. Resource areas to be addressed in the Supplemental EIS will include, but not be limited to: air quality, noise environment, land use, socioeconomic, infrastructure and community services, natural resources, biological resources, cultural resources, safety and environmental hazards. The analysis will evaluate direct and indirect impacts, and will account for cumulative impacts from other relevant activities near the installations. Relevant and reasonable measures that could avoid or mitigate environmental effects will also be analyzed. Additionally, the DoN will undertake any consultation applicable by law and regulation. No decision will be made to implement any alternative for homebasing the P-8A aircraft until the Supplemental EIS process is completed and a new ROD is signed by the DoN.

During the 45-day public comment and agency review period following release of the Draft Supplemental EIS, anticipated in Summer 2013, the DoN will schedule public meetings to discuss findings of the Draft Supplemental EIS and to receive public comments. The public meetings will be held near each of the homebasing locations. Dates, locations, and times for the public meetings will be announced in the Federal Register and local media at the appropriate time.

FOR FURTHER INFORMATION CONTACT: The DoN has established a public Web site for the Supplemental EIS: http://www.mmaseis.com. This public web site includes up-to-date information on the project and schedule, as well as related documents associated with the Supplemental EIS and 2008 Final EIS. To be included on the DoN's mailing list for the Supplemental EIS (or to receive a copy of the Draft Supplemental EIS), submit an electronic request through the project Web site under “mailing list” or a written request to: P-8A MMA EIS Project Manager (Code EV21/CZ); Naval Facilities Engineering Command (NAVFAC) Atlantic, 6506 Hampton Blvd., Norfolk, VA 23508.

Dated: November 8, 2012.
S.F. Thompson,
Captain, Office of the Judge Advocate General, U.S. Navy, Alternate Federal Register Liaison Officer.

[FR Doc. 2012-27762 Filed 11-14-12; 8:45 am]

BILLING CODE 3810-FF-P